DEPARTMENT OF TRANSPORTATION

Federal Aviation Administration

Twenty First RTCA SC-223 Internet Protocol Suite (IPS) and AeroMACS Plenary

AGENCY: Federal Aviation Administration (FAA), U.S. Department of Transportation (DOT).

ACTION: Twenty First RTCA SC-223 Internet Protocol Suite (IPS) and AeroMACS Plenary.

SUMMARY: The FAA is issuing this notice to advise the public of a meeting of Twenty First RTCA SC-223 Internet Protocol Suite (IPS) and AeroMACS Plenary.

DATES: The meeting will be held February 28-March 01, 2017 09:00 a.m.-05:00 p.m. and March 02, 2017 09:00 a.m.-12:00 p.m.

ADDRESSES: The meeting will be held at: RTCA Headquarters, 1150 18th Street NW., Suite 910, Washington, DC 20036.

FOR FURTHER INFORMATION CONTACT: Claudia Chaudhari at cchaudhari@rtca.org or 202-330-0662, or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Twenty First RTCA SC-223 Aeronautical Mobile Airport Communication System Plenary. The agenda will include the following:

Tuesday, February 28th, 2017—9:00 a.m.-5:00 p.m.

1. Welcome, Introductions, Administrative Remarks

2. Review of previous meeting notes and action items

3. Review of Current State of Industry Standards

a. ICAO WG-I

b. AEEC IPS Sub Committee

4. Current State of Industry Activities

a. SESAR Programs

b. ESA IRIS Precursor

c. Any Other Activities

5. IPS Technical Discussions

a. Review of IPS high level profile

b. Review of IPS RFC detail Profiles

c. Prioritization of additional IETF RFCs for Profiling

6. Any Other Topics of Interest

7. Plans for Next Meetings

8. Review of Action Items and Meeting Summary

9. Adjourn

Wednesday March 1, 2017—9:00 a.m.-5:00 p.m.

Continue in Plenary

Thursday March 2, 2017—9:00 a.m.-12:00 p.m.

Continue in Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 17, 2017.
Mohannad Dawoud,
Management & Program Analyst, Partnership Contracts Branch, ANG-A17 NextGen, Procurement Services Division, Federal Aviation Administration.

[FR Doc. 2017-01406 Filed 1-19-17; 8:45 am]

BILLING CODE 4910-13-P